DEPARTMENT OF THE INTERIOR

Bureau of Land Management

[NV-030-1920-00-4032]

Intent to Prepare an Environmental Impact Statement for Obtaining Water and/or Water Rights from Willing Sellers in the Walker River Basin and Public Scoping Meeting

Notice of intent to prepare an environmental impact statement for obtaining water and/or water rights from willing sellers in the Walker River Basin for the purposes of protecting the Walker Lake ecosystem from degradation resulting from increasing salinity (TDS) in the lake; possible use in a settlement of the United States' water rights claim in the Walker River Basin should a settlement be negotiated; and to assist in recovery of the threatened Lahontan cutthroat trout in the Walker River Basin.

AGENCY: Bureau of Land Management, Carson City Field Office, 5665 Morgan Mill Road, Carson City, NV 89701.

ACTION: Notice of intent to prepare an environmental impact statement for obtaining water and/or water rights from willing sellers in the Walker River Basin, notice of scoping period and public meetings.

SUMMARY: The Bureau of Land Management (BLM), Carson City Field Office, in cooperation with the Bureau of Indian Affairs (BIA), Phoenix Area Office, The Bureau of Reclamation (BOR), Lahontan Basin Area Office and the U.S. Fish and Wildlife Service (FWS), Nevada Fish and Wildlife Office, will direct preparation of an EIS to be produced by a third-party contractor analyzing the impacts (direct, indirect, and cumulative) of obtaining water and/or water rights from willing sellers on the human environment in the Walker River Basin.

EFFECTIVE DATES: Four public scoping meetings will be held in February and March, 2000 to allow the public an opportunity to identify issues and concerns to be addressed in the EIS. Representatives of the BLM, FOR, BIA, and FWS will be available to answer questions about the EIS process. Comments will be accepted until March 15, 2000. Scoping comments may be sent to: Field Manager, Bureau of Land Management, 5665 Morgan Mill Road, Carson City, NV 89701.

The scheduled public meetings are:

Lyon County Library, 20 Nevin Way, Yerington, NV 89447

February 16, 2000—7 p.m.

Mineral County Library, 110 1st Street, Hawthorne, NV 89415

February 17, 2000—7 p.m.

Memorial Hall, School Street, Bridgeport, CA 93517

February 23, 2000—7 p.m.

Carson City Field Office, BLM, 5665 Morgan Mill Road, Carson City, NV 89701

February 29, 2000—7 p.m.

A Draft EIS (DEIS) is expected to be completed by August 25, 2000 and made available for public review and comment. The comment period on the DEIS will be 60 days from the date the Notice of Availability (NOA) is published in the Federal Register.

FOR FURTHER INFORMATION: For additional information, write to the Field Manager of the Carson City Field Office at the address listed in the agency section of this notice, call or email Walt Devaurs (BLM Team Leader) at (775) 885-6150, wdevaurs&nv.blm.gov or Mike McQueen (BLM NEPA Coordinator) at (775) 885-6120, mmcqueen&nv.blm.gov.

SUPPLEMENTARY INFORMATION: The proposed EIS schedule is as follows:

Begin Public Comment Period: February 1, 2000

Issue Draft EIS: August 25, 2000

Issue Final EIS: March 1, 2001

Issue Record of Decision: June 5, 2001

End 30-day Appeal Period/Implementation: July 5, 2001

Dated: January 26, 2000.
John O. Singlaub,
Field Manager.

[FR Doc. 00-2078 Filed 1-31-00; 8:45 am]

BILLING CODE 4310-HC-M